DEPARTMENT OF AGRICULTURE

Animal and Plant Health Inspection Service

7 CFR Part 301

[Docket No. 04-093-2]

Golden Nematode; Regulated Areas

AGENCY: Animal and Plant Health Inspection Service, USDA.

ACTION: Affirmation of interim rule as final rule.

SUMMARY: We are adopting as a final rule, without change, an interim rule that amended the golden nematode regulations by adding a field in Cayuga County, NY, to the list of generally infested regulated areas for golden nematode. That action was necessary to prevent the artificial spread of golden nematode to noninfested areas of the United States.

EFFECTIVE DATE: The interim rule became effective on November 8, 2004.

FOR FURTHER INFORMATION CONTACT: Dr. Vedpal Malik, Agriculturalist, Invasive Species and Pest Management, PPQ, APHIS, 4700 River Road Unit 134, Riverdale, MD 20737-1236; (301) 734-6774.

SUPPLEMENTARY INFORMATION:

Background

The golden nematode (Globodera rostochiensis) is a destructive pest of potatoes and other solanaceous plants. Potatoes cannot be economically grown on land which contains large numbers of the nematode. The golden nematode has been determined to occur in the United States only in parts of New York.

The golden nematode regulations (contained in 7 CFR 301.85 through 301.85-10 and referred to below as the regulations) list two entire counties and portions of seven other counties in the State of New York as regulated areas and restrict the interstate movement of regulated articles from those areas. Such restrictions are necessary to prevent the artificial spread of the golden nematode to noninfested areas of the United States.

In an interim rule effective and published in the Federal Register on November 8, 2004, (69 FR 64639-64641, Docket No. 04-093-1), we amended the § 301.85-2a of the regulations by adding a field in Cayuga County, NY, to the list of generally infested regulated areas.

Comments on the interim rule were required to be received on or before January 7, 2005. We received one comment by that date, from a private citizen. The commenter objected to statements in the interim rule's economic analysis that treatment costs are borne by APHIS, stating that it is the taxpayer, and not APHIS, that actually bears those costs. The commenter further objected to the use of taxpayer funds for the golden nematode program, stating that producers should be responsible for the costs of the program. As this comment has no bearing on the action taken in the interim rule (i.e., the addition of one field to the list of generally infested areas), no changes to the interim rule are indicated.

Therefore, for the reasons given in the interim rule and in this document, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 69 FR 64639-64641 on November 8, 2004.

Done in Washington, DC, this 8th day of February 2005.
Elizabeth E. Gaston,
Acting Administrator, Animal and Plant Health Inspection Service.

[FR Doc. 05-2798 Filed 2-11-05; 8:45 am]

BILLING CODE 3410-34-P